NATIONAL SCIENCE FOUNDATION

Agency Information Collection Activities: Proposed Collection; Comment Request; Correction

AGENCY: National Science Foundation.

ACTION: Notice; correction.

SUMMARY: The National Science Foundation (NSF) published a document in the Federal Register of July 14, 2004, concerning request for comments on a proposed information collection. The document contained an incorrect title for the information collection.

FOR FURTHER INFORMATION CONTACT: Suzanne Plimpton on (703) 292-7556 or send e-mail to splimpto@nsf.gov. Individuals who use a telecommunications device for the deaf (TDD) may call the Federal Information Relay Service (FIRS) at 1-800-877-8339 between 8 a.m. and 8 p.m., Eastern time, Monday through Friday.

Correction

In the Federal Register of July 14, 2004, in FR Doc. 04-15883, on page 42217, third column, correct the title of the information collection to read: Monitoring for the National Science Foundation's Math and Science Partnership (MSP) Program.

Dated: July 14, 2004.
Suzanne H. Plimpton,
Reports Clearance Officer, National Science Foundation.

[FR Doc. 04-16361 Filed 7-16-04; 8:45 am]

BILLING CODE 7555-01-M